DEPARTMENT OF TRANSPORTATION

Federal Aviation Administration

14 CFR Part 71

Proposed Modification of the San Francisco, CA, Class B Airspace Area; Public Meetings

AGENCY: Federal Aviation Administration (FAA), DOT.

ACTION: Notice of meetings.

SUMMARY: This notice announces three fact-finding informal airspace meetings to solicit information from airspace users and others concerning a proposal to amend the Class B airspace area at San Francisco, CA. The purpose of these meetings is to provide interested parties an opportunity to present views, recommendations, and comments on any proposed change to the airspace. All comments received during these meetings will be considered prior to any revision or issuance of a notice of proposed rulemaking.

DATES: The meetings will be held on Monday, January 30, 2017, from 5:30 p.m. to 8:30 p.m.; Tuesday January 31, 2017 from 5:30 p.m. to 8:30 p.m.; and Wednesday February 1 from 5 p.m. to 8 p.m. Doors open 30 minutes prior to the beginning of each meeting. Comments must be received on or before March 16, 2017.

ADDRESSES: The meetings will be held at the following locations:

January 30, 2017: Burlingame Public Library, Lane Room, 480 Primrose Rd., Burlingame, CA 94010 (Seating capacity: 80).

January 31, 2017: Martin Luther King Library, Room 225, 150 E. San Fernando St., San Jose, CA 95112 (Seating capacity: 150).

February 1, 2017: Port of Oakland Building, First-Floor Exhibit Room, 530 Water St., Oakland, CA 94607 (seating capacity: 70).

Comments: Send comments on the proposal, in triplicate, to: Tracey Johnson, Manager, Operations Support Group, Western Service Center, Air Traffic Organization, Federal Aviation Administration, 1601 Lind Avenue SW., Renton, WA 98057, or by fax to (425) 203-4505.

FOR FURTHER INFORMATION CONTACT: Rick Coté, FAA Support Specialist, Northern California TRACON, 11365 Douglas Road, Mather, CA 95655, (916) 366-4001.

SUPPLEMENTARY INFORMATION:

Meeting Procedures

(a) The meetings will be informal in nature and will be conducted by one or more representatives of the FAA Northern California TRACON. A representative from the FAA will present a briefing on the planned modification to the Class B airspace at San Francisco, CA. Each participant will be given an opportunity to deliver comments or make a presentation, although a time limit may be imposed to accommodate closing times. Only comments concerning the plan to modify the San Francisco Class B airspace will be accepted.

(b) The meetings will be open to all persons on a space-available basis (seating capacity listed with addresses). There will be no admission fee to attend and participate.

(c) Any person wishing to make a presentation to the FAA panel will be asked to sign in and estimate the amount of time needed for such presentation. This will permit the panel to allocate an appropriate amount of time for each presenter.

(d) Position papers or other handout material relating to the substance of these meetings will be accepted. Participants wishing to submit handout material should present an original and two copies (three copies total) to the presiding officer. There should be additional copies of each handout available for other attendees.

(e) These meetings will not be formally recorded. However, a summary of comments made at the meeting will be filed in the docket.

Agenda for the Meetings

—Sign-in

—Presentation of Meeting Procedures

—Informal Presentation of the Planned Class B Airspace Area Modifications

—Solicitation of Public Comments

—Drop box for written comments

Authority: 49 U.S.C. 106(f), 106(g); 40103, 40113, 40120; E.O. 10854, 24 FR 9565, 3 CFR, 1959-1963 Comp., p. 389.

Issued in Washington, DC, on November 1, 2016.
Leslie M. Swann,
Acting Manager, Airspace Policy Group.

[FR Doc. 2016-27089 Filed 11-8-16; 8:45 am]

BILLING CODE 4910-13-P